DEPARTMENT OF HEALTH AND HUMAN SERVICES

National Institutes of Health

Office of the Director; Notice of Establishment

Pursuant to the Federal Advisory Committee Act, as amended (5 U.S.C. Appendix 2), the Director, Office of Federal Advisory Committee Policy, National Institutes of Health (NIH), announces the establishment of the Interagency Pain Research Coordinating Committee.

Public Law 111-148 (“Patient Protection and Affordable Care Act”), Title IV, as it amends Part B of Title IV of the Public Health Service Act (42 USC 284 et seq.) requires the committee to: (a) Develop a summary of advances in pain care research supported or conducted by Federal agencies relevant to the diagnosis, prevention, and treatment of pain and diseases and disorders associated with pain; (b) identify critical gaps in research on the symptoms and causes of pain; (c) make recommendations to ensure that the activities of the NIH and other Federal agencies are free of unnecessary duplication of effort; (d) make recommendations on how best to disseminate information on pain care; and (e) make recommendations on how to expand partnerships between public and private entities to expand collaborative, cross-cutting research.

Duration of this committee is two years from the date the Charter is filed.

Dated: July 9, 2010.
Jennifer Spaeth,
Director, Office of Federal Advisory Committee Policy.

[FR Doc. 2010-17261 Filed 7-14-10; 8:45 am]

BILLING CODE 4140-01-P